DEPARTMENT OF THE INTERIOR

Fish and Wildlife Service

Endangered and Threatened Wildlife and Plants; 5-Year Review of Nine Southeastern Species

AGENCY: Fish and Wildlife Service, Interior.

ACTION: Notice.

SUMMARY: The Fish and Wildlife Service is initiating 5-year reviews of the Louisiana black bear (Ursus americanus luteolus), Alabama red-bellied turtle (Pseudemys alabamensis), goldline darter (Percina aurolineata), blue shiner (Cyprinella caerulea), fat pocketbook (Potamilus capax), slender campeloma (Campeloma decampi), armored snail (Pyrgulopsis (=Marstonia) pachyta), cave crayfish (Cambarus zophonastes), and lyrate bladderpod (Lesquerella lyrata), under section 4(c)(2) of the Endangered Species Act (Act) of 1973 (16 U.S.C. 1531 et seq.), as amended. The purpose of reviews conducted under this section of the Act is to ensure that the classification of species as threatened or endangered on the List of Endangered and Threatened Wildlife and Plants (50 CFR 17.11 and 17.12) is accurate. A 5-year review is an assessment of the best scientific and commercial data available at the time of the review.

DATES: To allow us adequate time to conduct this review, information submitted for our consideration must be received on or before October 1, 2007. However, we will continue to accept new information about any listed species at any time.

ADDRESSES: Information submitted on the Louisiana black bear should be sent to Field Supervisor, Lafayette Field Office, Fish and Wildlife Service, 646 Cajundome Blvd., Suite 400, Lafayette, Louisiana 70506, fax 337/291-3139. Information on the Alabama red-bellied turtle, goldline darter, blue shiner, fat pocketbook, and lyrate bladderpod should be sent to Field Supervisor, Jackson Field Office, Fish and Wildlife Service, 6578 Dogwood View Parkway, Jackson, Mississippi 39216, fax 601-965-4340. Information on the slender campeloma and armored snail should be sent to Field Supervisor, Daphne Field Office, Fish and Wildlife Service, 1208-B Main St., Daphne, Alabama 36526, fax 251/441-6222. Information submitted on the cave crayfish should be sent to Field Supervisor, Conway Field Office, Fish and Wildlife Service, 110 S. Amity Rd., Suite 300, Conway, Arkansas, fax 501/513-4480. Information received in response to this notice of review will be available for public inspection by appointment, during normal business hours, at the same addresses.

FOR FURTHER INFORMATION CONTACT: Debbie Fuller at the Lafayette, Louisiana office, address above, (telephone, 337/291-3124, e-mail deborah_fuller@fws.gov); Cary Norquist at the Jackson, Mississippi office, address above, (telephone, 601/321-1128, e-mail cary_norquist@fws.gov); Jeff Powell at the Daphne, Alabama office, address above, (telephone, 251/441-5181, e-mail jeff_powell@fws.gov); and David Kampwerth at the Conway, Arkansas office, address above, (telephone, 501/513-4477, e-mail david_kampwerth@fws.gov).

SUPPLEMENTARY INFORMATION: Under the Act, the Service maintains a list of endangered and threatened wildlife and plant species at 50 CFR 17.11 (for wildlife) and 17.12 (for plants) (collectively referred to as the List). Section 4(c)(2)(A) of the Act requires that we conduct a review of listed species at least once every 5 years. Then, on the basis of such reviews, under section 4(c)(2)(B), we determine whether or not any species should be removed from the List (delisted), or reclassified from endangered to threatened or from threatened to endangered. Delisting a species must be supported by the best scientific and commercial data available and only considered if such data substantiate that the species is neither endangered nor threatened for one or more of the following reasons: (1) The species is considered extinct; (2) the species is considered to be recovered; and/or (3) the original data available when the species was listed, or the interpretation of such data, were in error. Any change in Federal classification would require a separate rulemaking process. Amendments to the List through final rules are published in the Federal Register.

The regulations at 50 CFR 424.21 require that we publish a notice in the Federal Register announcing those species currently under active review. This notice announces our active review of the following species that are currently listed as endangered: Alabama red-bellied turtle, slender campeloma, armored snail, cave crayfish, and lyrate bladderpod. This notice also announces our active review of the following species that are currently listed as threatened: Louisiana black bear, goldline darter, and blue shiner.

The List is also available on our internet site at http://endangered.fws.gov/wildlife.html#Species.

What Information Is Considered in the Review?

A 5-year review will consider the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List, and improved analytical methods.

Definitions Related to This Notice?

The following definitions are provided to assist those persons who contemplate submitting information regarding the species being reviewed:

A. Species includes any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How Do We Determine Whether a Species Is Endangered or Threatened?

Section 4(a)(1) of the Act establishes that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

What Could Happen as a Result of This Review?

If we find that there is new information concerning any of these nine species indicating that a change in classification may be warranted, we may propose a new rule that could do one of the following: (a) Reclassify the species from endangered to threatened (downlist); (b) reclassify the species from threatened to endangered (uplist); or (c) delist the species. If we determine that a change in classification is not warranted, then the species will remain on the List under its current status.

Public Solicitation of New Information

We request any new information concerning the status of any of these nine species. See “What information is considered in the review?” heading for specific criteria. Information submitted should be supported by documentation such as maps, bibliographic references, methods used to gather and analyze the data, and/or copies of any pertinent publications, reports, or letters by knowledgeable sources. Our practice is to make comments, including names and home addresses of respondents, available for public review during regular business hours. Individual respondents may request that we withhold their names and home addresses, etc., but if you wish us to withhold this information, you must state this prominently at the beginning of your comments. In addition, you must present rationale for withholding this information. This rationale must demonstrate that disclosure would constitute a clearly unwarranted invasion of privacy. Unsupported assertions will not meet this burden. In absence of exceptional, undocumented circumstances, this information will be released. We will make all submissions from organizations or businesses, and from individuals identifying themselves as representatives or officials of organizations or businesses, available for public inspection in their entirety.

Authority

This document is published under the authority of the Endangered Species Act (16 U.S.C. 1531 et seq.).

Dated: June 23, 2007.
Cynthia K. Dohner,
Acting Regional Director, Southeast Region

[FR Doc. E7-15023 Filed 8-1-07; 8:45 am]

BILLING CODE 4310-55-P